DEPARTMENT OF HEALTH AND HUMAN SERVICES

Administration for Children and Families

Submission for OMB Review; Measuring Human Trafficking Prevalence in Construction: A Field Test of Multiple Estimation Methods (New Collection)

AGENCY: Office of Planning, Research, and Evaluation, Administration for Children and Families, HHS.

ACTION: Request for public comment.

SUMMARY: The Administration for Children and Families (ACF) is proposing a new data collection activity for Measuring Human Trafficking Prevalence in Construction: A Field Test of Multiple Estimation Methods. This study will examine the labor trafficking and other labor exploitation experiences among individuals who work in construction. The goal of this study is to advance knowledge of promising methods for estimating human trafficking prevalence by field-testing two methods of prevalence estimation within the construction industry in Houston, Texas.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION: Description: The purpose of the proposed data collection activity is to estimate the prevalence of labor trafficking among construction workers in one location using two different sampling and estimation strategies. The proposed information collection activity is a one-time survey with up to 4,200 adults who worked in the construction industry in the selected geographic location in the 24 months prior to data collection. The construction worker survey will be offered in English and Spanish to workers identified through the following two sampling strategies: (1) Probability sample (i.e., time location sample), and (2) a network sample. The survey instrument used for individuals recruited through the two different sampling strategies will be primarily the same and includes questions focused on the individuals' experiences with labor exploitation and trafficking; employment histories, including work after a natural disaster; social networks; and demographic data.

Respondents: English- and Spanish-speaking individuals who have worked in construction in Houston, Texas, in the 2 years prior to data collection will be invited to complete a survey.

Annual Burden Estimates
Instrument | Number of respondents (total over request period) | Number of responses per respondent (total over request period) | Average burden per response (in hours) | Total burden (in hours) | Total burden (in hours) | Annual burden (in hours)
Construction Worker Survey | 4,200 | 1 | 1 | 0.5 | 2,100 | 1,050

Estimated Total Annual Burden Hours: 1,050.

Authority: Section 105(d)(2) of the Trafficking Victims Protection Act of 2000 (Pub. L. 106-386) [22 U.S.C. 7103].

Mary B. Jones,
ACF/OPRE Certifying Officer.

[FR Doc. 2022-06415 Filed 3-25-22; 8:45 am]

BILLING CODE 4184-47-P